DEPARTMENT OF ENERGY

Federal Energy Regulatory Commission

[Docket No. RP00-467-003]

Midwestern Gas Transmission Company; Notice of Compliance Tariff Filing

March 20, 2003.

Take notice that on March 18, 2003, Midwestern Gas Transmission Company (Midwestern) tendered for filing to become part of its FERC Gas Tariff, Third Revised Volume No. 1, the following tariff sheets:

Substitute Original Sheet No. 246A

Substitute Original Sheet No. 246B

Substitute Original Sheet No. 266B

Midwestern states that the purpose of this filing is to replace certain tariff sheets in Midwestern's February 18, 2003 compliance filing (February 18 Filing) that was filed in compliance with the Commission's Order dated December 19, 2003 in this proceeding (101 FERC ¶ 61,310 (2002). In addition, Midwestern proposes other clarifications and corrections to tariff provisions of the February 18 filing, in accordance with the directives contained in the December 19 Order in this proceeding.

Midwestern states that copies of this filing have been sent to all parties of record in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 31, 2003.

Magalie R. Salas,
Secretary.

[FR Doc. 03-7327 Filed 3-26-03; 8:45 am]

BILLING CODE 6717-01-P